DEPARTMENT OF HOMELAND SECURITY

U.S. Customs and Border Protection

Notice of Revocation of Customs Brokers' Licenses

AGENCY: U.S. Customs and Border Protection, Department of Homeland Security.

ACTION: Revocation of customs brokers' licenses.

SUMMARY: This document provides notice of the revocation of customs brokers' licenses by operation of law.

FOR FURTHER INFORMATION CONTACT: Julia D. Peterson, Branch Chief, Broker Management, Office of International Trade, (202) 863-6601, julia.peterson@cbp.dhs.gov.

SUPPLEMENTARY INFORMATION: This document provides notice that, pursuant to section 641 of the Tariff Act of 1930, as amended, (19 U.S.C. 1641) and section 111.30(d) of title 19 of the Code of Federal Regulations (19 CFR 111.30(d)), the following customs brokers' licenses were revoked by operation of law, without prejudice, for failure to file a triennial status report. A list of revoked customs brokers' licenses appears, below, in alphabetical order by name, and the names are grouped according to the ports of issuance.

Last/Company name | First name | License | Port of issuance
Harris | Lisa | 17048 | Anchorage.
Sherman | Cynthia | 12763 | Anchorage.
Canty | Jeremain | 21800 | Atlanta.
Crist | Diane | 23021 | Atlanta.
Davis | Lisa | 20146 | Atlanta.
Dean | Sandra | 23851 | Atlanta.
Duru | Chioma | 28256 | Atlanta.
Godfrey | Kimberly | 12089 | Atlanta.
Hodgkins | Kristen | 23043 | Atlanta.
Johnson | Stephen | 16226 | Atlanta.
Kelly | Merrill Elizabeth | 24351 | Atlanta.
Leverett | Wesley | 27943 | Atlanta.
Nicholson | Caroline | 24052 | Atlanta.
Spencer Schulz | Elizabeth M | 09658 | Atlanta.
Wahl | Mark | 28257 | Atlanta.
Wang | Yueh | 28079 | Atlanta.
Willeby | Natalie Renee | 15042 | Atlanta.
Williams | Aria | 29979 | Atlanta.
Williamson | Heather | 16752 | Atlanta.
Bratt | Thomas | 04409 | Baltimore.
Brennan | Frank | 10364 | Baltimore.
Campion Samueleis | Jennifer | 22259 | Baltimore.
Connolly | Henry | 09745 | Baltimore.
Dash | Joseph | 03433 | Baltimore.
DiCarlo | Susan | 11689 | Baltimore.
Duckett | Dina | 13012 | Baltimore.
Gilmer | Jimmie | 10299 | Baltimore.
H.C. Bennett Company |  | 14423 | Baltimore.
Ian International, Inc |  | 11886 | Baltimore.
Kraus International Shipping Co |  | 22112 | Baltimore.
Leslie | Robert | 05236 | Baltimore.
Morgan | James | 12466 | Baltimore.
Stitt | Marsha | 09739 | Baltimore.
Blaisdell | Philip G | 20063 | Boston.
Ciampa | Rosemary | 16662 | Boston.
Doucette | Lawrence B | 09020 | Boston.
Gamblin | Glenn George | 12091 | Boston.
Gomez | Roger | 04073 | Boston.
Hellenbeck | Margaret M | 16661 | Boston.
Hooks | John H | 06162 | Boston.
Houston | Paul | 06400 | Boston.
Import Export Compliance, Inc |  | 28217 | Boston.
LaRoque | Paul Kevin | 03189 | Boston.
Lasko | Dennis M | 17501 | Boston.
MacKenzie | Kathleen Irene | 16553 | Boston.
Murphy | Barry | 10543 | Boston.
Nickole | Kellie Rose | 10451 | Boston.
Powell | Paul Atkin | 03687 | Boston.
Votze | Janet C | 11236 | Boston.
Walsh | Pamela | 16919 | Boston.
World Express Inc. |  | 09651 | Boston.
Barrette | Robert | 24206 | Buffalo.
Behr | Donald | 09125 | Buffalo.
Bondi | Victor | 04929 | Buffalo.
Brocato | Joyce | 09093 | Buffalo.
Burke | Michele | 16850 | Buffalo.
Cain | Timothy | 21447 | Buffalo.
Deane (Bishop) | Jennifer | 23291 | Buffalo.
Ferrell | Martha | 14676 | Buffalo.
Fremont, Lancaster, LLC |  | 28977 | Buffalo.
Fyke Logistics (USA), Inc |  | 28352 | Buffalo.
Giumentaro | Joseph | 16516 | Buffalo.
Great Lakes Customs Brokerage, Inc |  | 14150 | Buffalo.
Hemstock | Kathleen | 17193 | Buffalo.
Hormell | Deborah | 14768 | Buffalo.
King | Deborah | 13218 | Buffalo.
Levitt | Glenn | 09337 | Buffalo.
MacGillivray | Karen | 20554 | Buffalo.
Mccaw | Rita | 09154 | Buffalo.
McLeod | Joan | 09048 | Buffalo.
Osborne | Andrew | 28962 | Buffalo.
Perrelli | John | 15585 | Buffalo.
Roulley | Douglas | 09324 | Buffalo.
Stroupe | Charles | 09685 | Buffalo.
Szewczyk | Pearl | 20851 | Buffalo.
Wald | Franklin | 06653 | Buffalo.
Westmoreland | Patricia | 21083 | Buffalo.
Brunell | Gary | 06822 | Champlain.
Burl | Wayne R | 04338 | Champlain.
Casey | William | 02863 | Champlain.
Columbe | Gloria | 07639 | Champlain.
Deloria | Dawn | 20859 | Champlain.
Perkins | Mary C | 15335 | Champlain.
Saunders | Ralph | 05392 | Champlain.
Willette | Randall | 06796 | Champlain.
Blitch | Keri | 15292 | Charleston.
Enfinger | Katrina | 11677 | Charleston.
Fain | Angelic | 15295 | Charleston.
Fitzpatrick | Amy | 12760 | Charleston.
Inman | Jessica | 21030 | Charleston.
Sadler-Magliacane | Debbie | 11477 | Charleston.
Thompson | Theresa | 14147 | Charleston.
Walters | Willis | 11393 | Charleston.
West | Glennis | 14474 | Charleston.
Barlas | Georgia | 17055 | Charlotte.
Flock | Deborah | 13907 | Charlotte.
Nelson | John R. | 21288 | Charlotte.
Stults | Pamela N | 15175 | Charlotte.
Stutts, III | Kenneth | 29379 | Charlotte.
Arthur | Essie N | 14007 | Chicago.
Benson | Allison V | 11591 | Chicago.
Blaha | Jane E | 15460 | Chicago.
Cahill | Raymond | 16066 | Chicago.
Chew | Ken H | 16052 | Chicago.
Cieslak | Dennis D | 28858 | Chicago.
Denehy | Robert K | 14909 | Chicago.
Dompke | Leroy J | 05562 | Chicago.
Fluger | Carol A | 11256 | Chicago.
Frye | Jeffrey | 11879 | Chicago.
Garcia | Joe T | 05420 | Chicago.
Gosling | Sandra M | 23429 | Chicago.
Heinke | Lynn M | 14621 | Chicago.
Henneghan-Bernet | Annare | 15505 | Chicago.
Koelling | Bruce G | 10825 | Chicago.
Lentz | Arthur F | 07708 | Chicago.
Leviton | Fred G | 16431 | Chicago.
McGrath | James P | 05968 | Chicago.
Neary | James A | 17172 | Chicago.
Silberman | Gail E | 15263 | Chicago.
Stradley | Janis L | 14317 | Chicago.
Bennett | Diana Kay | 16580 | Cleveland.
Freese | Thomas | 28740 | Cleveland.
Groh | Peter | 09797 | Cleveland.
Hagarman | Connie | 09880 | Cleveland.
Haury | Joshua | 23797 | Cleveland.
Hoppes | Laura | 13877 | Cleveland.
International Compliance Experts, LLC |  | 27461 | Cleveland.
McKeever | Kenneth Duane | 27503 | Cleveland.
Milklosovic | Bradley John | 30029 | Cleveland.
Neal | Todd | 20176 | Cleveland.
Ortiz | Henry | 10402 | Cleveland.
Peters | Kathy | 13372 | Cleveland.
Radomirov | Bridgette | 23682 | Cleveland.
Segovia | Amanda | 23583 | Cleveland.
Sireci | Joan | 15649 | Cleveland.
Sorenson | Robert | 13514 | Cleveland.
Chester | Jimmy | 20567 | Dallas.
Ellershaw | Sharon | 10305 | Dallas.
Lauritzen | Michael | 17115 | Dallas.
McElvany | Douglas Keith | 10046 | Dallas.
Reed | Douglas | 21284 | Dallas.
Renner | Carl | 21342 | Dallas.
Speegle | Joseph M | 13038 | Dallas.
Trojacek | Connie Dolores | 22501 | Dallas.
Acosta | Juan J | 15089 | El Paso.
Delgado | Jeanette Victoria | 15614 | El Paso.
Dotson | Lorna Yvonne | 15777 | El Paso.
Guzman | Gerardo | 21814 | El Paso.
Ogaz | Juan Antonio | 14799 | El Paso.
Ralin | Peter Leonard | 07137 | El Paso.
Suarez | Arturo | 12152 | El Paso.
Bell | Cynthia | 11339 | Great Falls.
Brett | Howard | 17097 | Great Falls.
Calhoun | Stephen | 17444 | Great Falls.
Chester | Shans | 12276 | Great Falls.
Crellin | Stephanie | 12550 | Great Falls.
Palmer | Michael | 04901 | Great Falls.
Parker | Irina | 23180 | Great Falls.
Rasmussen | Jeannine | 12009 | Great Falls.
Rode | Marie | 12790 | Great Falls.
Rotter | Kurt | 16766 | Great Falls.
Smedley | Marsha | 15986 | Great Falls.
Wasden | Benjamin | 22206 | Great Falls.
Aucoin | Samuel | 22019 | Honolulu.
Fujimori | Bert | 04766 | Honolulu.
BuitronEl | Ricardo A | 14409 | Houston.
Carranza | Elvia Irene | 24300 | Houston.
Edward | Berlin E | 07817 | Houston.
Gastler | Jacklyn | 11013 | Houston.
K2 Customs Brokers, LLC |  | 30009 | Houston.
Leidy | Susan L | 14713 | Houston.
Marinis | Steven J | 05577 | Houston.
McClellan | Lavone W | 07787 | Houston.
Nygard | Karen Elaine | 07524 | Houston.
Pohutsky | Lori J | 09580 | Houston.
Stewart | Harold Wade | 04313 | Houston.
Thompson, Jr. | Eugene E | 10979 | Houston.
Travis | Cynthia B | 11562 | Houston.
Warner | Robert Bruce | 05531 | Houston.
Carrasco | Gonzalo | 16478 | Laredo.
Del Rio | Rafael Beltran | 28908 | Laredo.
Gonzalo Carrasco C.H.B., Inc |  | 20897 | Laredo.
International Express Brokers, Inc |  | 21640 | Laredo.
Munoz | Esteban | 05243 | Laredo.
Pohler | Randy | 14458 | Laredo.
Ronald E. Guerra, Inc |  | 05526 | Laredo.
Sumner | Gregory Joe | 13935 | Laredo.
Abramovic | Felice | 17443 | Los Angeles.
Abella | Joel | 22608 | Los Angeles.
Adams | Lorraine | 07380 | Los Angeles.
Allen | Thomas | 10660 | Los Angeles.
Beteta | Martin E. Berrera | 16102 | Los Angeles.
Brownfield | Jon | 05981 | Los Angeles.
Burns | Karen M | 11353 | Los Angeles.
Byler | Timothy | 13929 | Los Angeles.
Carandang-Webster | Mila | 07016 | Los Angeles.
Cawiezel | Sharon | 07151 | Los Angeles.
Chang | Goang Yih | 13617 | Los Angeles.
Choi | David | 24195 | Los Angeles.
Chung | Jin | 29679 | Los Angeles.
Cook | Calvin M | 06979 | Los Angeles.
Crow | Maria | 21383 | Los Angeles.
Danache | Charles | 04183 | Los Angeles.
Dependable Global Express, Inc |  | 23369 | Los Angeles.
Dew | Michael | 15068 | Los Angeles.
Ficklin | Terrence | 27409 | Los Angeles.
Fischer | Lewis Leland | 14505 | Los Angeles.
Hagedorn | Linda M. | 05523 | Los Angeles.
Hampton | Madrienne | 22905 | Los Angeles.
Han | Qi | 27433 | Los Angeles.
Heck | Dennis | 01042 | Los Angeles.
Henry | Hiram | 12779 | Los Angeles.
Hofer | Marion | 14056 | Los Angeles.
Hu | Edith | 13202 | Los Angeles.
Huynh | Phuong | 09389 | Los Angeles.
Imbrogulio | John | 14144 | Los Angeles.
Krieger | Ian H | 07232 | Los Angeles.
Law | Kyran | 22480 | Los Angeles.
Lee | Jeffrey | 23311 | Los Angeles.
Lee | Linda | 11143 | Los Angeles.
Lee | Soo | 07095 | Los Angeles.
Li | Christopher | 11323 | Los Angeles.
Li | Valerie | 11709 | Los Angeles.
Liang | Philip | 13628 | Los Angeles.
Loza | Sally | 05963 | Los Angeles.
McGaughey | Deborah | 10924 | Los Angeles.
Michaels | Douglas | 14482 | Los Angeles.
Milne | Mark | 05671 | Los Angeles.
Min | Robert | 11948 | Los Angeles.
Montgomery | Randall | 09926 | Los Angeles.
Monto | Joseph | 04792 | Los Angeles.
Neal | Scott | 22424 | Los Angeles.
Nee | Howard | 28518 | Los Angeles.
Pirgyi | Diana | 22906 | Los Angeles.
Plumtree | Angelina | 21491 | Los Angeles.
Rae | Alan | 04239 | Los Angeles.
Reep | Denise | 20645 | Los Angeles.
Schafer Customs Brokerage, Inc |  | 27648 | Los Angeles.
Shay | Shane | 15196 | Los Angeles.
Sieren-Smith | Bridget | 23312 | Los Angeles.
Snitwongse | Chanpen | 06669 | Los Angeles.
Song | Deok | 24184 | Los Angeles.
Taslitt | Victory | 16023 | Los Angeles.
Tirsch | Wendy | 22056 | Los Angeles.
Tomlin | Robert | 13995 | Los Angeles.
VAB Services, Inc |  | 28853 | Los Angeles.
Valente | Giovanni | 21221 | Los Angeles.
Walden | Michael | 16717 | Los Angeles.
Walters | Michele | 14044 | Los Angeles.
Wismann | Enrique M | 06707 | Los Angeles.
Yetter | Jesse | 29429 | Los Angeles.
Ziegler | Natalie | 13179 | Los Angeles.
Ziskrout | Philip | 04171 | Los Angeles.
Crowley Logistics, Inc |  | 27721 | Miami.
Espinet | Gilbert | 16810 | Miami.
Garcia | Jan | 27681 | Miami.
Gelbert | Norman E | 09505 | Miami.
Lopez | Eva M | 22551 | Miami.
Mearsheimer | Mark | 14217 | Miami.
Roque | Cynthia | 28543 | Miami.
Saltalamacchia | Felix | 15967 | Miami.
Stair | Peter J | 22720 | Miami.
Turner | David L | 14884 | Miami.
Vinals | Mercedes | 22150 | Miami.
Woolf | Eric F | 16242 | Miami.
Blachowski | Mark | 13694 | Milwaukee.
Chou | Hung-Liang | 11936 | Milwaukee.
Johnston | Donna | 21327 | Milwaukee.
Konruff | Dustin | 29975 | Milwaukee.
Morris | Freddie | 06858 | Milwaukee.
Pinter | Mark | 12587 | Milwaukee.
Rutland | Robert | 12223 | Milwaukee.
Schwalbe | Vincent | 28705 | Milwaukee.
Becnel | David Martin | 17553 | New Orleans.
Bourque | Michael | 29150 | New Orleans.
Dunbar | John Scott | 21770 | New Orleans.
Krupp | David | 16970 | New Orleans.
Noto-Diaz | Donna | 17408 | New Orleans.
Wegener | Paul F | 03476 | New Orleans.
Aguirre | Ricardo | 09544 | New York.
Alpi USA, Inc |  | 15052 | New York.
Bayer | Charles | 23910 | New York.
Bernstein | Steven | 03765 | New York.
Brandvold | Kirstin | 13480 | New York.
Braun | Linda | 23184 | New York.
C.W. Logistics Corp |  | 23699 | New York.
Castilla | Judith | 06912 | New York.
Castro | Salvatore | 12659 | New York.
Chakedis | James | 05191 | New York.
Chen | Zhen | 28625 | New York.
Chiaramonte | Charles | 11868 | New York.
Chiu | Christina | 21475 | New York.
Cruz | Fidel | 14678 | New York.
Cunningham | Nancy | 05895 | New York.
David Vincent Associates, Inc |  | 15541 | New York.
Deresh | Steven | 07097 | New York.
Dobson | Marla | 10038 | New York.
Dockery | Maureen | 10887 | New York.
Encarnacion | Aurelio | 05720 | New York.
Espinal | Yanilcia | 23319 | New York.
Evans | William | 05325 | New York.
Fanok | Jeffrey | 10611 | New York.
Firpo | Laura | 10015 | New York.
Galvin | John | 09320 | New York.
Gavin Sambrook | Terry | 10581 | New York.
Geary | Chad | 22487 | New York.
Guengue | Nancy | 20576 | New York.
Gyomory | Barbara | 10016 | New York.
Hagedorn | William | 07305 | New York.
Highgrace International Corp |  | 13612 | New York.
Hodges | Mary | 08069 | New York.
Horsky | Tereza | 22971 | New York.
Imperiale | Lisa Ann | 20313 | New York.
Jackson | Tracey | 22297 | New York.
Joh | Justin | 28317 | New York.
La Russo | Patrick | 04548 | New York.
Lee | Diana | 27777 | New York.
Lee | John | 13727 | New York.
Li | Venching | 28398 | New York.
Liebgott | Charles | 05771 | New York.
Luzzo | Robert | 20084 | New York.
McCooey | Patrick | 10420 | New York.
Myers | James | 03848 | New York.
Palazzolo | Florence | 06934 | New York.
Poli | Gregory | 10980 | New York.
Rodriguez | Dominic | 10705 | New York.
Rose | Alan | 05736 | New York.
Saunders | Fred | 11471 | New York.
Scibelli | Gennaro | 02583 | New York.
Seltzer | Irwin | 13301 | New York.
Semins | John | 07830 | New York.
Shin | So | 29272 | New York.
Silvey | Alvin | 02561 | New York.
Singh | Inderjeet | 07855 | New York.
Skrzypinski | Thomas | 15022 | New York.
Smith | Joseph | 06928 | New York.
So | Chun | 29168 | New York.
Sommella | Vincent | 09249 | New York.
Stebich | Oliver | 16130 | New York.
Sullivan | Maryellen | 12657 | New York.
Tao | Guoging | 22646 | New York.
Teabo | Scott | 24069 | New York.
Titone | Michael | 06189 | New York.
Trehan | Lalit | 04851 | New York.
Unsworth | Paul | 11142 | New York.
Van Deventer | Robert | 10642 | New York.
Vargas | Sonia | 15938 | New York.
Volz, Jr. | George | 16292 | New York.
Wallace | Robert | 12110 | New York.
Wang | Nengjia | 28593 | New York.
Weiss | Ted | 07061 | New York.
Wiedenhaft | Randall | 16587 | New York.
Zhu | Cheng | 29169 | New York.
Cramer | Earlyn | 10186 | Nogales.
Karfield | Marvin | 15166 | Nogales.
Van Nice | Nick | 15918 | Nogales.
Welsh | Warren | 07459 | Nogales.
Belangia | Richard T | 05013 | Norfolk.
Collins | Sarah R | 12063 | Norfolk.
Fischer | George | 04023 | Norfolk.
Grego | Cari | 21612 | Norfolk.
Jordan | Bonnie M | 07725 | Norfolk.
Leonard | Mary Susan | 10880 | Norfolk.
Lewis | Terry Lee | 05275 | Norfolk.
Lotz | Sandra C | 07241 | Norfolk.
O'Neal | Linda L | 29988 | Norfolk.
Shipp | Helen W | 12020 | Norfolk.
Coltharp | Jon | 27683 | Otay Mesa.
Coulford | Mildred | 17123 | Otay Mesa.
Hostetler | Sylvia | 07679 | Otay Mesa.
Jenkins | Presley | 04452 | Otay Mesa.
Jones | Nick | 27958 | Otay Mesa.
Morrell | Tammy | 30409 | Otay Mesa.
Porter | Stephen | 06556 | Otay Mesa.
Rocco | Valerie | 15993 | Otay Mesa.
Rocha | Claudia | 28524 | Otay Mesa.
Villegas | Dolores | 07096 | Otay Mesa.
Kihle | Karen | 16123 | Pembina.
Margerum | Paul | 11491 | Pembina.
Bresani | Amelia | 29621 | Philadelphia.
Bunch | Lyn Foster | 12498 | Philadelphia.
Casciato | Patricia | 17330 | Philadelphia.
Coxson | Charles | 15760 | Philadelphia.
Edwards | Theresa | 30498 | Philadelphia.
Galik | Jane | 10357 | Philadelphia.
Given | Christina M | 16456 | Philadelphia.
Jones | Debra | 12460 | Philadelphia.
Kilpatrick | Amy | 22108 | Philadelphia.
Pinhak | Joseph | 16394 | Philadelphia.
Stevenson | William A | 06516 | Philadelphia.
Valkenburg | Per F | 10292 | Philadelphia.
Vielle | Bernard E | 17065 | Philadelphia.
ITCI, Inc. |  | 21944 | Portland, ME.
Hatton | James L | 06269 | Portland, OR.
Jones | Timothy P | 14729 | Portland, OR.
King | William Thomas | 12652 | Portland, OR.
Lords | Jolynn | 09583 | Portland, OR.
Takasumi | Richard C | 07439 | Portland, OR.
Thain | Betty | 05942 | Portland, OR.
Beliveau | Nicole | 28663 | Providence.
Santamaria | Richard | 08017 | Providence.
Alioto | Joseph | 14755 | San Francisco.
Ansel | Aaron | 29724 | San Francisco.
Berger | Jorg | 04864 | San Francisco.
Brun | John | 04346 | San Francisco.
Burns | Judith | 07193 | San Francisco.
C&F Drawback Consultants |  | 21071 | San Francisco.
Capil | Carina | 16676 | San Francisco.
Carpenter | Edmoundo | 23428 | San Francisco.
Ceccacci | Jeffrey | 23165 | San Francisco.
Celli | Machiko | 10470 | San Francisco.
Clark | Virgil | 16356 | San Francisco.
Conner | Gerald | 14865 | San Francisco.
Corr | Michael | 06194 | San Francisco.
Davis | Robert | 14068 | San Francisco.
Fleischman | Gary | 17073 | San Francisco.
Gattso | Rocco | 13342 | San Francisco.
Grey | Sara | 29702 | San Francisco.
Iyer | Dharam | 29405 | San Francisco.
Jamin | Natanael | 15844 | San Francisco.
Jenkins | Presly | 03640 | San Francisco.
Lancellotti | Margot | 14237 | San Francisco.
Lee | Chansoo | 23773 | San Francisco.
McCaffrey | Michael | 07334 | San Francisco.
Parker | Dylan | 28212 | San Francisco.
Prince | Margaret | 11636 | San Francisco.
Raggio | Stanley | 10250 | San Francisco.
Scovell | Nancy | 07086 | San Francisco.
See | Donald | 05220 | San Francisco.
Sikka | Anil | 12061 | San Francisco.
Ting | Peter | 10321 | San Francisco.
Yang | Diana | 24152 | San Francisco.
Cameron | Jacob Leonard | 24018 | San Juan.
Ashley | Scott | 15375 | Savannah.
Chandler | Elaine | 05028 | Savannah.
Faircloth | Gloria | 06412 | Savannah.
Hodges | Lynette | 06873 | Savannah.
Johnston | Mary | 14803 | Savannah.
Parham | Thomas | 07437 | Savannah.
Russell | Ray | 14292 | Savannah.
Slayton | Julia Suber | 18001 | Savannah.
Stewart | Janice | 18030 | Savannah.
Tolbert | Shawn | 12568 | Savannah.
Usher | Clyde | 10907 | Savannah.
Bagnall | Richard | 22255 | Seattle.
Barnes | Sara | 21271 | Seattle.
Bartlett | Kathy | 15128 | Seattle.
Bogenshutz | Allan | 06766 | Seattle.
Bonney | Robert | 04813 | Seattle.
Carter | Alan | 07833 | Seattle.
Hall | Peter | 28300 | Seattle.
Hansen | Ronald | 21870 | Seattle.
Holmstrom | Roger | 06423 | Seattle.
Kincaid | Alan | 13971 | Seattle.
King | Jeffery | 14974 | Seattle.
Linehan | Larry | 04415 | Seattle.
Mullene | Daniel | 06774 | Seattle.
Pool | David | 15235 | Seattle.
Rasmussen | Kristie | 12059 | Seattle.
Sanders | George | 03442 | Seattle.
Schrank | Dennis | 07943 | Seattle.
Shiner | Mark | 05660 | Seattle.
Shumate | Devin | 24144 | Seattle.
Stendal | Wendy | 10237 | Seattle.
Stevenson | Aimee | 16688 | Seattle.
Stoeser | Kathleen | 11448 | Seattle.
Stoeser | Stephen | 11671 | Seattle.
Sundaram | Anila | 21391 | Seattle.
VanWieringen | Debra | 12311 | Seattle.
Whitlock | Laura | 17218 | Seattle.
Doig | William | 06696 | St. Albans.
McKenny | Ronald | 03736 | St. Albans.
Middlemiss | Donald | 10951 | St. Albans.
Ferrell | Douglas | 24359 | St. Louis.
Lichtas | Tami | 21233 | St. Louis.
McMillan | Erin | 23406 | St. Louis.
Mudgett | Sandra K | 20372 | St. Louis.
Tasker | Robert | 21654 | St. Louis.
Trost | Thomas F | 14753 | St. Louis.
Waltos-Drake | Shirley | 07375 | St. Louis.
Armburst | Frederick C | 11693 | Tampa.
Coffey-Ramirez | Anna M. | 14050 | Tampa.
Joseph | Jean Claude | 21405 | Tampa.
Kiang-Wu | Maylene | 14222 | Tampa.
Leverette | Lucius | 24318 | Tampa.
Marshall | Robert | 06390 | Tampa.
Oswald, Jr. | Lowell | 14137 | Tampa.
Sailor | Stephen | 21161 | Tampa.
Saunders | Nydia | 15232 | Tampa.
Streker | John | 21158 | Tampa.
Arevalo | Cynthia | 13681 | Washington, DC.
Guntapalli | Mayuri | 28832 | Washington, DC.
Hill | John | 22612 | Washington, DC.
Lewis | Michael | 12389 | Washington, DC.
Martin | Jeffrey | 29274 | Washington, DC.
Moritsugu | Erika | 23065 | Washington, DC.
Wallace | Laura | 20785 | Washington, DC.

Dated: December 30, 2015.
Brenda B. Smith,
Assistant Commissioner, Office of International Trade.

[FR Doc. 2015-33246 Filed 1-5-16; 8:45 am]

BILLING CODE 9111-14-P